ENVIRONMENTAL PROTECTION AGENCY

[EPA-HQ-OPP-2011-0038: FRL-9326-9]

Emergint Technologies, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Emergint Technologies, Inc. in accordance with 40 CFR 2.307(h)(3) and 2.308(i)(2). Emergint Technologies, Inc. has been awarded a contract to perform work for OPP, and access to this information will enable Emergint Technologies, Inc. to fulfill the obligations of the contract.

DATES: Emergint Technologies, Inc. will be given access to this information on or before November 23, 2011.

FOR FURTHER INFORMATION CONTACT: Mario Steadman, Information Technology and Resources Management Division (7502P), Office of Pesticide Programs, Environmental Protection Agency, 1200 Pennsylvania Ave. NW., Washington, DC 20460-0001; telephone number: (703) 305-8338, email address: steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0038. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under contract number ER-W-11-025, the contractor will perform the following: The contractor will be assisting in information and records management activities to support antimicrobial reregistration activities governed by the Federal Insecticide Fungicide, and Rodenticide Act (FIFRA) as amended by the Food Quality Act (FQPA) of August 3, 1996 and the Federal Food Drug and Cosmetic Act (FFDCA).

This contract involves no subcontractors.

OPP has determined that the contracts described in this document involve work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contracts with Emergint Technologies, Inc. prohibits use of the information for any purpose not specified in these contracts; prohibits disclosure of the information to a third party without prior written approval from the Agency; and requires that each official and employee of the contractor sign an agreement to protect the information from unauthorized release and to handle it in accordance with the FIFRA Information Security Manual. In addition, Emergint Technologies, Inc. is required to submit for EPA approval a security plan under which any CBI will be secured and protected against unauthorized release or compromise. No information will be provided to Emergint Technologies, Inc. until the requirements in this document have been fully satisfied. Records of information provided to Emergint Technologies, Inc. will be maintained by EPA Project Officers for these contracts. All information supplied to Emergint Technologies, Inc. by EPA for use in connection with these contracts will be returned to EPA when Emergint Technologies, Inc. has completed its work.

List of Subjects

Environmental protection, Business and industry, Government contracts, Government property, Security measures.

Dated: November 9, 2011.
Oscar Morales,
Director, Information Technology and Resources Management Division, Office of Pesticide Programs.

[FR Doc. 2011-29785 Filed 11-17-11; 8:45 am]

BILLING CODE 6560-50-P